DEPARTMENT OF ENERGY

Federal Energy Regulatory Commission

Combined Notice of Filings

Take notice that the Commission has received the following Natural Gas Pipeline Rate and Refund Report filings:

Filings Instituting Proceedings

Docket Numbers: PR21-62-001.

Applicants: Black Hills/Kansas Gas Utility Company, LLC.

Description: Submits tariff filing per 284.123(b),(e)/: BHKG Amended Statement of Rates and SOC to be effective 8/1/2021.

Filed Date: 12/15/2021.

Accession Number: 20211215-5040.

Comments/Protests Due: 5 p.m. ET 12/29/21.

Docket Numbers: PR22-11-000.

Applicants: Houston Pipe Line Company LP.

Description: Submits tariff filing per 284.123(b),(e)/: Houston Pipe Line Company LP Notice of Change in Circumstances in PR08-6-000 to be effective N/A.

Filed Date: 12/13/2021.

Accession Number: 20211213-5121.

Comments/Protests Due: 5 p.m. ET 1/3/22.

Docket Numbers: PR22-12-000.

Applicants: Enable Oklahoma Intrastate Transmission, LLC.

Description: Submits tariff filing per 284.123(b),(e)/: EOIT Notice of Change in Circumstances to be effective N/A.

Filed Date: 12/13/2021.

Accession Number: 20211213-5137.

Comments/Protests Due: 5 p.m. ET 1/3/22.

Docket Numbers: RP22-413-000.

Applicants: El Paso Natural Gas Company, L.L.C.

Description: § 4(d) Rate Filing: Negotiated Rate Agreement Update (Pioneer Jan-Mar 2022) to be effective 1/1/2022.

Filed Date: 12/14/21.

Accession Number: 20211214-5113.

Comment Date: 5 p.m. ET 12/27/21.

Docket Numbers: RP22-414-000.

Applicants: Cheyenne Plains Gas Pipeline Company, L.L.C.

Description: § 4(d) Rate Filing: Negotiated Rate Agreement Filing (Mieco) to be effective 12/14/2021.

Filed Date: 12/14/21.

Accession Number: 20211214-5119.

Comment Date: 5 p.m. ET 12/27/21.

Docket Numbers: RP22-415-000.

Applicants: Equitrans, L.P.

Description: § 4(d) Rate Filing: Negotiated Rate Agreement Amendments Effective 1/1/2022 to be effective 1/1/2022.

Filed Date: 12/15/21.

Accession Number: 20211215-5068.

Comment Date: 5 p.m. ET 12/27/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding. The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2021.
Debbie-Anne A. Reese,
Deputy Secretary.

[FR Doc. 2021-27671 Filed 12-21-21; 8:45 am]

BILLING CODE 6717-01-P